DEPARTMENT OF COMMERCE

National Oceanic and Atmospheric Administration

RIN 0648-XC586

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Commercial Fisheries Research Foundation (CFRF) is proposing to explore the use of several data recording devices in an industry-based pilot study that would effectively relay more accurate, detailed, and timely American lobster data to fisheries managers and scientists. The CFRF is also proposing to use vent-less traps in order to determine the abundance and distribution of juvenile American lobsters in Lobster Management Areas (LMAs) 2 and 3. This pilot study would utilize 12 Federal commercial fishing vessels; 6 vessels in each of the 2 management areas.

Regulations under the Magnuson-Stevens Fishery Conservation and Management Act require publication of this notification to provide interested parties the opportunity to comment on applications for proposed EFPs.

DATES: Comments must be received on or before April 12, 2013.

ADDRESSES:

• Email: Comments on this notice may be submitted by email. The mailbox address for providing email comments is NERO.EFP@noaa.gov. Include in the subject line “Comments on CFRF Lobster EFP.”

• Mail: Written comments should be sent to: John K. Bullard, Regional Administrator, NMFS, NE Regional Office, 55 Great Republic Drive, Gloucester, MA 01930. Mark the outside of the envelope “Comments on CFRF Lobster EFP.”

• Fax: (978) 281-9135.

FOR FURTHER INFORMATION CONTACT: Maria Jacob, Environmental Technician, 978-281-9180, Maria.Jacob@noaa.gov.

SUPPLEMENTARY INFORMATION: The CFRF submitted a complete application for an EFP on March 8, 2013. To conduct its research on the abundance and distribution of juvenile American lobster in LMAs 2 and 3, the CFRF is requesting exemptions from the following Federal lobster regulations: (1) Gear specifications to allow for closed escape vents, as prohibited in 50 CFR 697.21(c); (2) trap limits to be exceeded by three additional traps per fishing vessel, for a total of 36 additional traps, as prohibited in § 697.19(a)(2) for LMA 2, and § 697.19(b)(5) for LMA 3; and (3) trap tag requirements, as specified in § 697.19(f). Sampling would take place in the following statistical areas: 515, 521, 522, 525, 526, 533, 534, 537, 538, 539, 541, 542, 543, 561, 562, 613, 615, 616, 622, 623, 624, 626, 627, 628, 629, 632, 633, 634, 636, 637, 638, and 640.

Funding for this pilot study will be provided through NOAA grants NA08NMF4720595, NA10NMF4720285, and NA09NMF4720414, as part of the Southern New England Collaborative Research Initiative Program (SNECRI). One of the main objectives of the SNECRI is to improve collection and management of fishery-dependent data; this pilot study would attempt to achieve this goal.

The proposed pilot study would take place during regular fishing activity, and sampling would take place on each vessel during three of its scheduled fishing trips per month. If an EFP is granted, there would be an additional 36 modified traps in the water during any given time, and for a period of one year. Each participating vessel would have up to three modified traps attached to a regular trap trawl, to be hauled daily or weekly. The addition of 36 modified traps would increase the total number of traps in the fishery by 0.003 percent, a very small number compared to the number of lobster traps deployed in the fishery.

Modifications to a conventional lobster trap would include a closed escape vent, smaller mesh size, and smaller entrance head. These modified traps would be attached to one or two randomly selected trap trawl(s) during regular fishing operations. Lobsters retrieved from these modified traps would remain onboard for a short period of time to allow for sampling, after which they would be returned to the water. The CFRF would submit progress reports twice a year to cover the first and second half of the 12-month sampling period. The exact specification for the chosen design would be provided in the first progress report.

Biological information will be collected on both kept and discarded lobsters, including: Carapace length; sexual determination; and presence of eggs, v-notches, and shell disease. For every trap trawl hauled during a designated sampling trip, commercial fishermen would be expected to sample 100 lobsters, or 20 traps if there are less than 100 lobsters to sample in a randomly chosen trap trawl. This pilot study proposes to use several recording devices, including onboard electronic calipers for length measurements, video cameras, and waterproof tablets. Data will be recorded using waterproof tablets, and the information will be uploaded using wireless internet connection once the vessel returns to port.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 25, 2013.
Kara Meckley,
Acting Deputy Director, Office of Sustainable Fisheries, National Marine Fisheries Service.

[FR Doc. 2013-07258 Filed 3-27-13; 8:45 am]

BILLING CODE 3510-22-P